DEPARTMENT OF LABOR

Office of the Secretary

Submission for OMB Emergency Review; Comment Request

May 13, 2003.

The Department of Labor has submitted the following (see below) information collection request (ICR), utilizing emergency review procedures, to the Office of Management and Budget (OMB) for review and clearance in accordance with the Paperwork Reduction Act of 1995 (Pub. L. 104-13, 44 U.S.C. Chapter 35). OMB approval has been requested by May 19, 2003. A copy of this ICR, with applicable supporting documentation, may be obtained by calling the Department of Labor. To obtain documentation, contact Darrin King on 202-693-4129 (this is not a toll-free number) or e-mail: king.darrin@dol.gov.

Comments and questions about the ICR listed below should be forwarded to the Office of Information and Regulatory Affairs, Attn: OMB Desk Officer for the Occupational Safety and Health Administration, Office of Management and Budget, Room 10235, Washington, DC 20503.

The Office of Management and Budget is particularly interested in comment which:

• Evaluate whether the proposed collection of information is necessary for the proper performance of the functions of the agency, including whether the information will have practical utility;

• Evaluate the accuracy of the agency's estimate of the burden of the proposed collection of information, including the validity of the methodology and assumption use;

• Enhance the quality, utility, and clarify of the information to be collected; and

• Minimize the burden of the collection of information on those who are to respond, including through the use of appropriate automated, electronic, mechanical, or other technological collection techniques or other forms of information technology, e.g., permitting electronic submissions of responses.

Agency: Occupational Safety and Health Administration (OSHA).

Title: Respirator Procurement and Supply Survey.

OMB Number: 1218-0NEW.

Frequency: One-time.

Affected Public: Business or other for-profit (i.e., Manufacturers of personal protective equipment).

Number of Respondents: 31.

Annual Responses: 31.

Estimated Time Per Respondent: 30 minutes.

Total Burden Hours: 16.

Total Burden Cost (capital/startup): $0.

Total Burden Cost (operating/maintaining): $0.

Description: This emergency clearance is needed in order to obtain information from the manufacturers of personal protective equipment. In order to determine the number of respirators that manufacturers or distributors can provide to emergency responders, who would respond to terrorist events where weapons of mass destruction were used, OSHA will survey the members of the International Safety Equipment Manufacturers Association. The Agency needs to determine the amount of reserve capacity and the time needed to manufacture and deliver the respirators to various regions in the United States. This information will be utilized to strategically plan with the Federal Emergency Management Agency where and to what extent caches of respirators will be needed nationwide. This information is vital to Homeland Security and the need to have a coordinated response in order to prevent further injuries and sickness to responders and recovery workers. The Department and OSHA have been attending regular meetings at the Domestic Interagency Terrorism Management Concept of Operations Group. This group is responsible for implementation of Homeland Security Presidential Directive/HSPD-5 (Management of Domestic Incidents). Through the Department and OSHA's collaborative efforts with this group and the National Response Team, OSHA's role to provide technical assistance and consultation in the event of a terrorist attack has recently been significantly elevated.

Ira L. Mills,
Departmental Clearance Officer.

[FR Doc. 03-12418 Filed 5-16-03; 8:45 am]

BILLING CODE 4510-26-M